NUCLEAR REGULATORY COMMISSION

[Docket No. 40-3392; NRC-2011-0143]

License Amendment Request for Closure of Calcium Fluoride Ponds at Honeywell Metropolis Works, Honeywell International, Inc.

AGENCY: Nuclear Regulatory Commission.

ACTION: Notice of availability of environmental assessment and finding of no significant impact.

SUMMARY: The U.S. Nuclear Regulatory Commission (NRC) is considering the issuance of a license amendment to Source Materials License SUA-526 issued to Honeywell International, Inc. (Honeywell) for its Metropolis Works Facility (MWF) in Metropolis, Illinois. The license amendment would approve Honeywell's proposed Decommissioning Plan for Surface Impoundments B, C, D, and E at the MWF. The NRC has prepared an Environmental Assessment (EA) for this proposed action in accordance with its regulations. Based on the EA, the NRC has concluded that a Finding of No Significant Impact (FONSI) is appropriate with respect to the proposed action. The amendment will be issued following the publication of this document.

ADDRESSES: Please refer to Docket ID NRC-2011-0143 when contacting the NRC about the availability of information regarding this document. You may access publicly-available information related to this document using any of the following methods:

• Federal Rulemaking Web site: Go to http://www.regulations.gov and search for Docket ID NRC-2011-0143. Address questions about NRC dockets to Carol Gallagher; telephone: 301-287-3422; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession numbers for the documents related to this notice are: (1) License Amendment Request Report NRC License Number SUB-526, Closure of Retention Ponds B, C, D, and E (ML103420434, ML103400458, ML103400459, and ML103400517); (2) Additional Information provided by Honeywell, February 13, 2012 (ML12060A115); and (3) Environmental Assessment and Finding of No Significant Impact (ML12338A057).

• NRC's PDR: You may examine and purchase copies of public documents at the NRC's PDR, Room O1-F21, One White Flint North, 11555 Rockville Pike, Rockville, Maryland 20852.

FOR FURTHER INFORMATION CONTACT: Mary T. Adams, Senior Environmental Engineer; Conversion, De-conversion, and MOX Branch; Division of Fuel Cycle Safety and Safeguards; Office of Nuclear Material Safety and Safeguards; U.S. Nuclear Regulatory Commission, Washington, DC 20555, telephone: 301-287-9146; email: Mary.Adams@nrc.gov.

SUPPLEMENTARY INFORMATION:

I. Introduction

By letter dated November 22, 2010, the NRC received a license amendment application from Honeywell Metropolis Works (Honeywell, MTW, or the licensee), pertaining to its proposed closure plan for four ponds located on the MTW plant site. Honeywell holds NRC License No. SUB-526, which authorizes the licensee to possess and use source material at its uranium conversion facility located in Metropolis, Illinois. Honeywell seeks an amendment to license SUB-526, pursuant to Section 40.44 of Title 10 of the Code of Federal Regulations (10 CFR) to approve the closure of the calcium fluoride ponds in-place, by stabilization of the contents and construction of a cover system over the stabilized ponds. After the closure plan is successfully implemented, Honeywell will seek release of the ponds area from SUB-526 for unrestricted use in accordance with 10 CFR 20.1402, “Radiological criteria for unrestricted use.”

On July 7, 2011, the NRC issued a notice of amendment request and opportunity to request a hearing (76 FR 39918) on the license amendment request. No requests for hearing were received. An Environmental Report was included in the license amendment request. The NRC relied upon the information provided in the license amendment request; additional information provided by Honeywell on February 13, 2012; and other sources identified in the environmental assessment (EA) in preparing the EA. A draft of the EA was sent to the Illinois Emergency Management Agency, the Illinois Environmental Protection Agency, and the U.S. Environmental Protection Agency for review.

II. Environmental Assessment Summary

As required by 10 CFR 51.30, the EA describes the proposed action and four alternatives to the proposed action, including a no-action alternative; describes the need for the proposed action; and assesses the environmental impacts of the proposed action and alternatives. The EA evaluates environmental impacts in the following resource areas: Land use; transportation; geology, soils and seismology; hydrology; ecological resources; air quality, meteorology, climatology; noise; historic and cultural resources; visual and scenic resources; demography and socioeconomics; public health; and waste management. The EA concluded that the impacts on all of these resource areas are small, based on significance criteria set forth in NUREG-1748, “Environmental Review Guidance for Licensing Actions Associated with NMSS Programs” (Adams Accession No. ML032450279). The EA also includes a list of agencies and persons consulted, and identification of sources used in preparing the EA.

In accordance with 10 CFR 51.31(a), upon completion of the EA, and consideration of the small environmental impacts on the environmental resource areas, the NRC Deputy Director of the Division of Fuel Cycle Safety and Safeguards has determined that a finding of no significant impact is appropriate.

III. Finding of No Significant Impact

On the basis of the EA, the NRC has concluded that there are no significant environmental impacts from the proposed action, and that the issuance of a license amendment to approve the ponds decommissioning plan does not warrant the preparation of an Environmental Impact Statement. Accordingly, the NRC has determined that a Finding of No Significant Impact is appropriate.

Dated at Rockville, Maryland, this 20th day of September 2013.
For the Nuclear Regulatory Commission.
James W. Andersen,
Deputy Director, Division of Fuel Cycle Safety and Safeguards, Office of Nuclear Material Safety and Safeguards.

[FR Doc. 2013-23608 Filed 9-26-13; 8:45 am]

BILLING CODE 7590-01-P